DEPARTMENT OF AGRICULTURE

Forest Service

Bridger-Teton National Forest; Wyoming; Invasive Plant Management

AGENCY: Forest Service, USDA.

ACTION: Notice of intent to prepare an environmental impact statement.

SUMMARY: The Bridger-Teton Nation Forest (BTNF) will prepare an environmental impact statement (EIS) to disclose the effects of continued control of noxious and other invasive plants through the integration of manual, mechanical, biological, and ground and aerial herbicide control methods. Effects analysis of treatments of invasive plants, including cheatgrass (Bromus tectorum) and other invasive annual grasses, will be projected over the next 10-15 years. The agency invites comments and suggestions on the scope of the analysis to be included in the draft environmental impact statement (DEIS). In addition, the agency gives notice of this environmental analysis and decision-making process so that interested and affected people know how they may participate in the process. The BTNF is currently treating noxious weeds and invasive plants under the March 1, 2005 Decision Notice, Management of Noxious Weeds on the Bridger-Teton National Forest. This decision needs to be updated since it did not include the use of new herbicides, aerial application of herbicides, or new invasive plant populations.

DATES: Comments concerning the scope of the analysis must be received by February 20, 2018. The draft EIS is expected in May of 2018, and the final EIS is expected in October 2018.

ADDRESSES: Send written comments to Forest Supervisor, Bridger-Teton National Forest, P.O. Box 1880, 340 N. Cache, Jackson, Wyoming 83001. Comments may also be sent via email to comments-intermtn-bridger-teton@fs.fed.us or via facsimile to 307-739-50108.

FOR FURTHER INFORMATION CONTACT: Direct questions about the proposed action and the EIS to Chad Hayward, Project Coordinator, 10418 S Hwy 189, Big Piney, Wyoming, 83113, phone (307) 276-5817 or email chayward@fs.fed.us. Comments are not to be sent to this address; they need to be received as directed above. Individuals who use telecommunication devices for the deaf (TDD) may call the Federal Information Relay Service (FIRS) between 8 a.m. and 8 p.m., Eastern Time, Monday through Friday at 1-800-877-8339.

SUPPLEMENTARY INFORMATION: Invasive species are defined as alien species whose introduction does or is likely to cause economic or environmental harm or harm to human health (Federal Executive Order 13112). When developing an invasive plant management strategy, it is critical to consider all available resources and tools. Integrated pest management (IPM) strategies utilize various invasive plant management options that focus on the most economical, efficient and effective control of invasive plants. Anything that weakens the invasive plant, prevents spreading, or prevents seed production can be a valuable tool.

Purpose and Need for Action

Currently, approximately 75,000 acres within the BTNF are infested with invasive plants. Invasive, non-native species are threatening or dominating areas of the BTNF with negative impacts on native plant communities, big game winter ranges, sage-grouse habitat, soil and watershed resources, recreation, domestic livestock forage availability, and aesthetic values. A shift from native vegetation to invasive plants alters wildlife habitats, decreases wildlife and livestock forage, reduces species diversity, increases soil erosion due to a decrease in surface cover, alters the fire return interval, and promotes undesirable monocultures.

The purpose and need of the project is to prevent and reduce loss of native plant communities associated with the spread of invasive plant species. Specifically, the purposes of this project are to prevent and treat invasive plants within the BTNF and to reduce the impacts from invasive plants on other resources by:

• Protecting the natural condition and biodiversity of the Bridger-Teton by preventing or limiting the spread of aggressive, non-native plant species that displace native vegetation;

• promptly eliminating new invaders (species not previously reported in the area) before they become established;

• preventing or limiting the spread of established invasive plants into areas containing little or no infestation;

• protecting sensitive and unique habitats including critical big game winter ranges, sage-grouse core areas and other important habitats; and

• reducing known and potential invasive plant seed sources along roads and trails, within powerline corridors, rights-of-ways, gravel and rock quarries, fuels reduction projects, and previously-burned areas to prevent the spread of invasive plants into new, un-infested areas.

Proposed Action

The Forest Service, through the application of an invasive plant treatment strategy, proposes to continue to treat invasive plant species on the BTNF. The proposed action would occur over the next 10-15 years and would treat several thousands of acres annually. The proposed action would broaden the current management for control of noxious weeds to:

• Treat new infestations through a strategy for assessing new treatments and new sites;

• permit the use of newly developed, more species-specific, Environmental Protection Agency (EPA)-registered herbicides;

• continue the use of integrated treatment methods, including herbicides, within wilderness areas where approved in advance and necessary to maintain native vegetation consistent with wilderness values;

• broaden control methods to include the use of aerial application of herbicides where effective ground application is not possible outside of wilderness areas; and

• maintain or improve protection measures for herbicide applications.

Adding the capability for aerial treatments is necessary to safely and effectively apply herbicides, in uniform applications, on the steeper slopes that characterize critical big game winter ranges. It is also needed to cooperate with integrated land ownership partners that are experiencing extensive infestations of cheatgrass because of recent and severe drought (and that are negatively affecting native plant populations, especially those in critical sage-grouse habitat). An estimated average of an additional 5,000 to 15,000 acres might be treated annually for cheatgrass control in cooperation with intermingled-landownership partners. Potential treatment areas include crucial big game winter ranges, sage-grouse core areas and other important habitats, fuels reduction projects, previously-burned areas, roads and trails, power lines, rights-of-ways, gravel and rock quarries, and areas where invasive weeds are already beginning to proliferate.

The proposed action would utilize a variety of tools, singularly or in combination, to implement an integrated strategy. Proposed control methods include the following:

• Mechanical methods, such as hand-pulling, mowing or cutting;

• revegetation, where competitive vegetation is seeded to reduce invasive species, possibly after other treatments;

• grazing with livestock;

• biological control using predators, parasites, and pathogens;

• herbicide control using ground-based application methods; herbicide control using aerial application methods;

• prescribed fire in conjunction with other treatment methods;

• education programs to inform people of the effects of invasive plant infestations, methods of spread, and preventative management opportunities and practices; and

• prevention by using practices that reduce invasive plant spread, including a weed-free forage and gravel program and washing vehicles to remove seeds and plant parts.

The selection of control methods is not a choice of one tool over another, but rather selection of a combination of tools that would be most effective on target species for a location. The BTNF proposes to use a combination of control methods based on site-specific conditions and circumstances, EPA labels, USDA Animal and Plant Health Inspection Service (APHIS) direction, and resource protection measures to ensure that treatment methods are properly used. No activities are being proposed to occur on private lands. It is anticipated, however, that the Forest Service may receive requests from intermingled and adjacent landowners to be a willing and able partner on projects that might be proposed to treat invasive plant populations that are found on multiple land ownerships that include National Forest System lands.

Possible Alternatives

The BTNF will consider a reasonable range of alternatives, including a no action alternative. Based on the issues gathered through scoping, the action alternatives may vary in the amount and location of acres considered for treatment and the number, type, and location of activity.

Responsible Official

The Bridger-Teton Forest Supervisor is the Responsible Official for making the decision concerning this proposal.

Nature of Decision To Be Made

Given the purpose and need, the Responsible Official reviews the proposed action, the other alternatives, and the environmental consequences in order to make the following decisions: Whether to expand current efforts to control invasive plants; what control methods would be used; what herbicides would be used; what protection measures and monitoring measures would be required; and whether to include an adaptive management approach to address future spread of invasive weeds.

The EIS is a project-level analysis. The scope of the project is confined to issues and potential environmental consequences relevant to the decision. This analysis does not attempt to re-evaluate or alter decisions made at higher levels. The decision is subject to, and would implement direction from, higher levels.

National and regional policies and Forest Plan direction require consideration of effects of all projects on invasive plant spread and prescription of protection measures where practical to limit those effects. Reconsideration of other existing project-level decisions or programmatically prescribing protection measures or standards for future forest management activities (such as travel management, timber harvest, and grazing management) are beyond the scope of this document. Cumulative effects will be addressed in Chapter 3 of the EIS.

Even with careful consideration, unforeseen events can occur during project implementation that will require additional analyses. Unanticipated events can result in new information that could have a bearing on a decision. Forest Service procedures for addressing such new information, documents, and decisions are thoroughly explained in FSH 1909.15, Section 18.

Preliminary Issues

Key issues identified to date include the current and potential impacts of invasive plants on natural resources such as big game winter habitat, native plant communities, wilderness values, watershed function, and threatened, endangered, or sensitive species and their habitats. Additional issues preliminarily identified include economic impacts; the effectiveness and potential impacts of various control methods on natural resources; and potential effects on non-target native plants and associated values, wildlife and fish populations, and human health from the application of herbicides.

Scoping Process

This notice of intent initiates the scoping process, which guides the development of the EIS. Public participation will be especially important at several points during the analysis, beginning with the scoping process (40 CFR 1501.7). The decision and reasons for the decision will be documented in a Record of Decision. The decision will be subject to Forest Service Project-Level Predecisional Administrative Review Process (Objection Process) (36 CFR part 218).

It is important that reviewers provide their comments at such times and in such manner that they are useful to the agency's preparation of the EIS. Therefore, comments should be provided prior to the close of the comment period and should clearly articulate the reviewer's concerns and contentions.

Comments received in response to this solicitation, including names and addresses of those who comment, will become part of the public record for this proposed action. Comments submitted anonymously will be accepted and considered, however anonymous comments will not provide the respondent eligibility to participate in subsequent administrative or judicial review.

Dated: January 10, 2018.
Chris French,
Associate Deputy Chief, National Forest System.

[FR Doc. 2018-00804 Filed 1-17-18; 8:45 am]

BILLING CODE 3411-15-P